DEPARTMENT OF THE INTERIOR

National Park Service

[NPS-WASO-NRNHL-DTS# 36173; PPWOCRADI0, PCU00RP14.R50000]

National Register of Historic Places; Notification of Pending Nominations and Related Actions

AGENCY: National Park Service, Interior.

ACTION: Notice.

SUMMARY: The National Park Service is soliciting electronic comments on the significance of properties nominated before July 1, 2023, for listing or related actions in the National Register of Historic Places.

DATES: Comments should be submitted electronically by July 31, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 1, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so. Nominations submitted by State or Tribal Historic Preservation Officers

Key: State, County, Property Name, Multiple Name (if applicable), Address/Boundary, City, Vicinity, Reference Number.

COLORADO

Costilla County

“Sierras y Colores” Mural, 318 Main St., San Luis, SG100009205

LOUISIANA

Lafayette Parish

Mills, Kennedy, and Hopkins Additions, Generally bounded by RR tracks, West 2nd, West Congress, and South St. Antoine Sts., Lafayette, SG100009214

Camp Claiborne Regimental Chapel, 710 Jefferson Blvd. Lafayette, SG100009215

Orleans Parish

Lincoln Beach, 13835 and 14000 Hayne Blvd., New Orleans, SG100009216

MARYLAND

Baltimore County

Glenn L. Martin Company Plant No. 2, 2800 Eastern Blvd., Middle River, SG100009218

MINNESOTA

Redwood County

Lower Sioux Agency (Boundary Increase), Address Restricted, Sherman Township vicinity, BC100009222

NEBRASKA

Douglas County

Leavenworth Park Commercial Historic District, (Streetcar-Era Commercial Development in Omaha, Nebraska MPS), 3114-3120 St Mary's Ave. and 3105-3512 Leavenworth St., Omaha, MP100009208

OHIO

Montgomery County

St. Paul Evangelical Lutheran Church and Parish Hall, 239 Wayne Ave., Dayton, SG100009223

TEXAS

Gregg County

Longview National Bank, 213 North Fredonia St., Longview, SG100009217

UTAH

Washington County

Sugarloaf Hillside Sign, Red Hills Pkwy., St. George, SG100009209

VIRGINIA

Loudoun County

Philomont Historic District, Jct. of VA 630 (JEB Stuart Rd.) and VA734 (Snickersville Tpk.), Philomont, SG100009206

WYOMING

Sweetwater County

Downtown Rock Springs Historic District (Boundary Increase), A portion of the southwest side of K St. northeast to its intersection with Pilot Butte Ave., then northeast along both sides of Pilot Butte Ave. to Elias Ave., Rock Springs vicinity, BC100009220

Additional documentation has been received for the following resources:

MINNESOTA

Redwood County

Lower Sioux Agency (Additional Documentation), Address Restricted, Sherman Township vicinity, AD70000308

OHIO

Hamilton County

Stowe, Harriet Beecher, House (Additional Documentation), 2950 Gilbert Ave., Cincinnati, AD70000497

TENNESSEE

Shelby County

Rayner, Eli, House (Additional Documentation), 1020 Rayner St., Memphis, AD77001292

Nominations submitted by Federal Preservation Officers:

The State Historic Preservation Officer reviewed the following nominations and responded to the Federal Preservation Officer within 45 days of receipt of the nominations and supports listing the properties in the National Register of Historic Places.

CALIFORNIA

Inyo County

Patsiata Tübiji Nüümü-na Awaedu Ananisudüheina (Patsiata Historic District), Address Restricted, Lone Pine vicinity, SG100009210

MONTANA

Beaverhead County

Wise River Ranger Station, Beaverhead-Deerlodge NF, Wise River Ranger District, Wise River vicinity, SG100009207

Authority: Section 60.13 of 36 CFR part 60.

Dated: July 6, 2023.
Sherry A. Frear,
Chief, National Register of Historic Places/National Historic Landmarks Program.

[FR Doc. 2023-14961 Filed 7-13-23; 8:45 am]

BILLING CODE 4312-52-P